DEPARTMENT OF HEALTH AND HUMAN SERVICES

Centers for Disease Control and Prevention

[60Day-18-1102]

Agency Forms Undergoing Paperwork Reduction Act Review

AGENCY: Centers for Disease Control and Prevention (CDC), Department of Health and Human Services (HHS).

ACTION: Notice with comment period; withdrawal.

SUMMARY: The Centers for Disease Control and Prevention (CDC) in the Department of Health and Human Services (HHS) announces the withdrawal of the notice published under the same title on August 22, 2018 for public comment.

DATES: Applicable September 7, 2018.

FOR FURTHER INFORMATION CONTACT: Information Collection Review Office, Centers for Disease Control and Prevention, 1600 Clifton Road NE, MS-D74, Atlanta, Georgia 30329; phone: 404-639-7570; email: omb@cdc.gov.

SUPPLEMENTARY INFORMATION: On August 22, 2018 CDC published a notice in the Federal Register titled “Information Collection for Tuberculosis Data from Panel Physicians” (Vol. 83, No. 163 Docket No. CDC-2018-0049, Pages 42502-542503). This notice was published inadvertently. The notice is being withdrawn immediately for public comment.

Jeffrey M. Zirger,
Acting Chief, Information Collection Review Office, Office of Scientific Integrity, Office of the Associate Director for Science, Office of the Director, Centers for Disease Control and Prevention.

[FR Doc. 2018-19383 Filed 9-6-18; 8:45 am]

BILLING CODE 4163-18-P